DEPARTMENT OF AGRICULTURE

Forest Service

Buckhorn Mountain Project a Supplement to the Final Environmental Impact Statement for Crown Jewel Mine, Okanogan and Wenatchee National Forests, Okanogan and Ferry Counties, Washington

AGENCY: Forest Service, USDA.

ACTION: Revised notice of intent to prepare a Supplemental Environmental Impact Statement.

SUMMARY: On September 5, 2003, the USDA Forest Service and Washington State Department of Ecology published a notice of intent to jointly prepare a Supplemental Environmental Impact Statement (SEIS) for a proposal by Crown Resources Corporation (Crown) to develop a mine and mill for precious mineral extraction in the vicinity of Chesaw, Washington (Federal Register, Volume 68, No. 172, page 52736). The Buckhorn Mountain Project will supplement the Final environmental impact statement (FEIS) for Crown Jewel Mine, which was released February 7, 1997. Since publication of the notice of intent, Crown Resources has submitted a revised plan of operations that mills the ore and disposes the tailings at Echo Bay Mineral Corporation's existing Kettle River facility east of Republic in Ferry County. The agencies have accepted the new plan of operations as the proposed action for the project and are re-scoping this new proposal. Crown proposes to develop an underground gold mine on Buckhorn Mountain approximately 3.5 air miles east of Chesaw, Washington in sections 24 ad 25, Township 40 North, Range 30 East, W.M. and transport ore by road to the existing Kettle River milling facility 8 miles east of Republic, Washington in Section 26, Township 37 North, Range 33 East, W.M. Milling and tailings disposal would occur at the Kettle River facility. Additionally rock would be quarried for backfill materials at a location approximately one mile west of Curlew on the south side of the West Kettle River Road, in Sections 14 and 15, Township 39 North, Range 33 East, W.M. The SEIS will evaluate an underground mining and milling configuration that is different from the underground mining operation proposed in the Crown Jewel Mine FEIS. The proposed project will comply with the direction in the December 1989 Okanogan National Forest Land and Resource Management Plan (Forest Plan), as amended. The Forest Plan provides the overall guidance for management of NFS lands included in this proposal. The agencies invite written comments on the scope of this project. In addition, the agencies give notice of this analysis so that interested and affected individuals are aware of how they may participate and contribute to the final decision.

DATES: Comments concerning the scope of this analysis must be received by May 17, 2004. A public information and scoping meeting will be held on April 22, 2004 at the Republic Elementary School, 30306 E. Highway 20 from 5-7:30 p.m. to provide information about the project to the public and to allow people to comment on the project. The Draft SEIS is expected to be filed in January 2005. The final SEIS is expected to be filed in June 2005.

ADDRESSES: Submit written comments and suggestions concerning the scope of the analysis to Phil Christy, Project Coordinator, Tonasket Ranger District, 1 West Winesap, Tonasket, Washington 98855 [Phone: (509) 486-5137].

FOR FURTHER INFORMATION CONTACT: Direct questions about the proposed action and SEIS to Phil Christy, Project Coordinator, Tonasket Ranger District, 1 West Winesap, Tonasket, Washington 98855 [Phone: (509) 486-5137].

SUPPLEMENTARY INFORMATION:

Purpose and Need for Action

The purpose and need for this action is to respond to the revised plan of operations and other permit applications submitted by Crown to construct and operate a mine of the specific body of ore on Buckhorn Mountain, along with processing facilities, while protecting surface resources.

Proposed Action

The proposed action is the proposal described in Crown's February 9, 2004, Amended Plan of Operation which can be viewed on-line at http://www.fs.fed.us/r6/okanogan/ (click on Bulletin Board). The proposal would consist of an underground mine and associated surface facilities on private lands and on public lands administered by the Forest Service (See Figure 4). Milling of the extracted ore and tailings disposal would be accomplished at the Echo Bay Mineral Corporation's Kettle River Mill located near Republic in Ferry County, Washington.

The proposed mine would result in 31 acres of disturbed area surrounding fenced surface facilities above the ore deposit. There will be up to 55 acres of additional disturbance related to haul roads for the project. Approximately 8 months of underground development work is required prior to initial ore production. The 88,000 tons of development rock generated during this initial period would be temporarily staged on the round surface until returned underground as backfill. Construction of the administrative office and other associated surface facilities would occur concurrently. Full-scale production of fifteen hundred tons of ore per day is likely to begin twelve months after project initiation. Commercial production is projected to continue for approximately 90 months (7.5 years). Active physical decommissioning of site facilities would continue for approximately 2 additional years upon mining cessation, followed by three to five years of reclamation monitoring and final closure.

The majority of underground mine openings would be backfilled upon completion of mining. The backfill would consist of development rock from the mine and gravel excavated from existing mines and/or a new gravel mine or mines. The Amended Plan of Operations identifies a large quarry site located about one mile west of Curlew as a significant source of backfill materials. Backfill will consist of approximately 900,000 cubic yards of uncemented materials and 700,00 cubic yards of materials with a cement additive.

The proposed supply route to the mine would extend from the city of Oroville east on Oroville-Toroda Creek Road through the community of Chesaw, then continue on Pontiac Ridge Road to FS Road 120. Approximately one mile of new road would be constructed to connect FS Road 120 to oh proposed mine site (See Figure 5).

Mineral ore extracted from the mine would be hauled to the Kettle River Mill and tailings disposal facility by road in highway-legal trucks. The haul route would be approximately 47 miles in length and would traverse a combination of FS roads, county roads and state highways. Approximately three miles of new road would need to be constructed to connect the mine with FS Road 3550 (Marias Creek Road). The haul route would follow FS Road 3550 east to its intersection with Toroda Creek Road (See Figure 6). The Amended Plan of Operations identifies the following three alternative routes to connect the mine with Toroda Creek Road:

(1) FS Road 120 south to Pontiac Ridge Road then east to Toroda Creek Road on Oroville Toroda Creek (Beaver Lake) Road (Labeled as Alternative Route A on Figure 5);

(2) FS Road 120 south to Pontiac Ridge Road then east to Toroda Creek Road on Pontiac Ridge Road (Labeled as Alternative Route B on Figure 5); and

(3) FS Road 120 north to FS Road 100 then east to Toroda Creek Road on FS Road 3575 (Nicholson Creek Road) (Labeled as Alternative Route D on Figure 5).

The haul route would extend north on Toroda Creek Road, then east on West Kettle River Road to its intersection with State Route (SR) 21 near the community of Curlew. The road would follow SR 21 south through the community of Malo to its intersection with Cook Mountain Road. The route would continue eastbound on Cook Mountain Road, then turn on Jack May's Road, and then on to Fish Hatchery Road were it would enter the existing mill and tailings disposal site. On their return trip from the mill to the mine, haul trucks would transport backfill from the gravel quarry near Curlew (described above) to the mine site.

The mill and tailings disposal site are approximately four miles east of SR 21 and eight miles east of Republic. The key steps in the milling process will include ore crushing and grinding, carbon in-leach precious mineral extraction, cyanide detoxification and disposal of tailings, and gold and silver recovery. In order to accommodate ore from the Buckhorn mine, the tailings disposal facility at the Kettle River Mill would need to be expanded. The amended proposal calls for increasing the height of the existing tailings impoundment to maintain the expansion within the disposal facility's current footprint (See Figure 7).

Under the amended proposal, about 100 employees would be employed at the mine at the peak of initial construction activities and 120 employees at full mine operation. Approximately 30 employees would be employed for ore hauling activities, while about 40 employees would be employed at the milling and tailings facility.

All project activities must be in compliance with Chapter 78.56 RCW (Metals Mining and Milling Operations) and Chapter 78.44 RCW (Surface Mining). A reclamation plan that meets the standard of Chapter 78.44 RCW will be required for any surface mining of sands and gravels associated with the project.

Possible Alternatives

The Crown Jewel Mine FEIS analyzed a reasonable range of alternatives. The new underground mine proposal differs from the underground mine presented in the Crown Jewel Mine Final EIS, although some components remain the same. Because a reasonable range was established in the preceding FEIS, possible alternatives will be limited to alternative components to the underground mining/milling operation and will be based on the response to scoping. The agencies may still analyze the original July 2003 proposal by Crown Resources for a mill and tailings facility at Dry Gulch, with haul down the Pontiac Ridge road.

Lead and Cooperating Agencies

The Forest Service and the Washington State Department of Ecology will be joint lead agencies in accordance with 40 CFR 1501.5(b), and are responsible for preparation of the SEIS. The Washington State Department of Natural Resources will be a cooperating agency in accordance with 40 CFR 1501.6. Scoping will determine if additional cooperating agencies are needed.

Nature of the Decision To Be Made

The Forest Supervisor for the Okanogan and Wenatchee National Forests will decide whether or not to permit a mining operation on Buckhorn Mountain, and if it is permitted, what mitigation measures and monitoring will be required. The Forest Supervisor will only be making a decision regarding operations on NFS lands.

Scoping Process

Public participation will be especially important at several points during the analysis. The participating agencies will be seeking information, comments, and assistance from Federal, State, local agencies, Native American Tribe and other individuals and organizations who may be interested in or affected by the proposed project. This input will be used in preparation of the Draft SEIS. The scoping process includes:

• Identifying potential issues not addressed in the Crown Jewel Mine EIS.

• Identifying major issues to be analyzed in depth.

• Identifying issues, which have been addressed by a relevant previous environmental analysis include the Crown Jewel Mine EIS.

• Exploring additional potential components of an underground mine/mill alternative, which will be derived from issues recognized during scoping activities.

• Identifying potential environmental effects of this project.

• Determining potential cooperating agencies and task assignments.

• Notifying interested members of the public of opportunities to participate through meetings, personal contacts, or written comment. Keeping the public informed through the media and/or written material (e.g. newsletters, correspondence, etc.).

Preliminary Issues

A number of issues were identified in the Crown Jewel Mine EIS. The major issues identified concerned the effects of the proposal on water quality and quantity, wildlife habitat, and visual quality, and the potential for increased traffic, the use of toxic materials for processing the ore, extraction impacts, potential spills, and social/economic impacts. Because of the very limited impacts to NFS lands, the current proposal minimizes the issues of wildlife habitat impacts, extraction impacts, potential spills, visual quality impacts, and the use of toxic materials on NFS lands.

Permits or Licenses Required

Numerous permits and licenses are required for this project. A list of these can be requested at the contact address above.

Comment Requested

This notice of re-intent initiates the scoping process, which guides development of the SEIS. The Forest Service is seeking public and agency comment on the proposed action to determine if any additional issues arise which were not already addressed in the Crown Jewel Mine EIS. Additional issues may lead either to other alternatives, or additional mitigation measures and monitoring requirements.

Early Notice of Importance of Public Participation in Subsequent Environmental Review

A Draft SEIS will be prepared for comment. Copies will be distributed to interested and affected agencies, organizations, and members of the public for their review and comment. The comment period on the Draft SEIS will be 45 days from the date the Environmental Protection Agency publishes the notice of availability in the Federal Register.

The Forest Service believes, at this early stage, it is important to give reviewers notice of several court rulings related to public participation in the environmental review process. First, reviewers of a Draft SEIS must structure their participation in the environmental review of the proposal so that it is meaningful and alerts an agency to the reviewer's position and contentions. Vermont Yankee Nuclear Power Corp. v. NRDC, 435 U.S. 519, 553 (1978). Also, environmental objections that could be raised at the Draft SEIS stage but that are not raised until after the completion of the Final SEIS may be waived or dismissed by the courts. City of Angoon v. Hodel, 803 F.2d. 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the participating agencies at a time when it can meaningfully consider them and respond to them in the Final SEIS.

To assist the participating agencies in identifying and considering issues and concerns on the proposed action, comments on the Draft SEIS should be as specific as possible. It is also helpful if comments refer to specific pages or chapters of the draft statement. Comments may also address the adequacy of the Draft SEIS or the merits of the alternatives formulated and discussed in the statement. Reviewers may wish to refer to the Council on Environmental Quality Regulations for implementing the procedural provisions of the National Environmental Policy Act at 40 CFR 1503.3 in addressing these points.

In the Final SEIS, the participating agencies are required to respond to comments and responses received during the comment period that pertain to the environmental consequences discussed in the Draft SEIS and applicable laws, regulations, and policies considered in making a decision regarding the proposal.

Comments received including the names and addresses of those who comment, will be considered part of the public record on this proposal and will be available for public inspection.

The Forest Supervisor for the Okanogan and Wenatchee National Forest will be the responsible official for this SEIS and its Record of Decision. As the responsible official, the Forest Supervisor will document the decision and reasons for the decision in the Record of Decision. That decision will be subject to Forest Service Appeal Regulations (36 CFR Part 215).

Dated: March 29, 2004.
Alan M. Quan,
Deputy Forest Supervisor.

[FR Doc. 04-7433 Filed 4-01-04; 8:45 am]

BILLING CODE 3410-11-M